ENVIRONMENTAL PROTECTION AGENCY

[OPP-2002-0079; FRL-7181-8]

Availability of the Tolerance Reassessment Decision (TRED) for Linuron

AGENCY: Environmental Protection Agency (EPA).

ACTION: Notice.

SUMMARY: This notice announces the availability of the tolerance reassessment decision document for linuron. The linuron overview and decision document have been developed as part of the public participation process that EPA and the U.S. Department of Agriculture (USDA) are now using for involving the public in the reassessment of pesticide tolerances as a result of the Food Quality Protection Act (FQPA), and in the reregistration of individual pesticides under the Federal Insecticide, Fungicide, and Rodenticide Act (FIFRA).

DATES: Comments, identified by docket ID number OPP-2002-0079, must be received by EPA on or before July 26, 2002.

ADDRESSES: Comments may be submitted by mail, electronically, or in person. Please follow the detailed instructions for each method as provided in Unit III. of the SUPPLEMENTARY INFORMATION. To ensure proper receipt by EPA, it is imperative that you identify docket ID number OPP-2002-0079 in the subject line on the first page of your response.

FOR FURTHER INFORMATION CONTACT: Dirk Helder, Special Review and Reregistration Division (7508W), Office of Pesticide Programs, Environmental Protection Agency, 1200 Pennsylvania Ave., NW., Washington, DC 20460; telephone number: (703) 305-4610; e-mail address: Helder.Dirk@epa.gov.

SUPPLEMENTARY INFORMATION:

I. General Information

A. Does this Action Apply to Me?

This action is directed to the public in general, nevertheless, a wide range of stakeholders will be interested in obtaining the tolerance reassessment decision document for linuron, including environmental, human health, and agricultural advocates; the chemical industry; pesticide users; and members of the public interested in the use of pesticides on food. Since other entities also may be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. On the Home Page select “Laws and Regulations,” “Regulations and Proposed Rules,” and then look up the entry for this document under the “Federal Register—Environmental Documents.” You can also go directly to the Federal Register listings at http://www.epa.gov/fedrgstr/. In addition, copies of the pesticide FQPA and interim risk management decision documents released to the public may also be accessed at http://www.epa.gov/pesticides/reregistration/status.htm.

2. In person. The Agency has established an official record for this action under docket ID number OPP-2002-0079. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket ID number OPP-2002-0079 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0/9.0 or ASCII file format. All comments in electronic form must be identified by docket ID number OPP-2002-0079. Electronic comments may also be filed online at many Federal Depository Libraries.

D. How Should I Handle CBI That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

III. What Action is the Agency Taking?

EPA has assessed the risks of linuron and is reporting on the FQPA Tolerance Reassessment Decision for this pesticide. EPA completed the Linuron Reregistration Eligibility Decision (RED) prior to the 1996 enactment of the Food and Quality Protection Act; therefore, while no reregistration decision is required at present, risks from non-occupational exposure to linuron through food, drinking water, and residential uses must be reassessed. There are no residential uses of linuron. The Agency has reassessed the 40 tolerances for linuron and determined that residues in food and drinking water are not expected to pose risk concerns. In addition, three new tolerances are proposed for use on cotton gin by-products (9.0 parts per million (ppm)), celeriac (1.0 ppm), and rhubarb (0.5 ppm). Final tolerances are being proposed as part of this Tolerance Reassessment Decision (TRED). Some tolerances may be revised once additional confirmatory field trial data have been submitted to and reviewed by the Agency. In addition, occupational and ecological risk management decisions were made as part of the 1995 Linuron RED and have been implemented. However, two new minor uses were established for linuron as part of the tolerance reassessment process for use on celeraic and rhubarb. An occupational risk assessment was performed for these two new uses and they do not present risks of concern for the Agency.

EPA works extensively with affected parties to reach the decisions presented in the FQPA tolerance reassessment decision documents. This Notice announces the availability of the linuron overview and decision document which report on FQPA tolerance reassessment and risk management decisions. These and additional supporting documents are available on the internet at http://www.epa.gov/pesticides/reregistration/status.htm and in the public docket, OPP-2002-0079. This Notice also announces the beginning of a 30-day public comment period. The docket is open and any comments submitted will be placed in the public docket for consideration. In the absence of substantive comments, the tolerance reassessment decision for linuron will be considered final.

List of Subjects

Environmental protection, Chemicals, Pesticides and pests.

Dated: June 17, 2002.
Lois A. Rossi,
Director, Special Review and Reregistration Division, Office of Pesticide Programs.

[FR Doc. 02-16106 Filed 6-25-02 8:45 am]

BILLING CODE 6560-50-S